DEPARTMENT OF TRANSPORTATION

Federal Aviation Administration

Notice of Request To Release Property at Bowman Field, Louisville, KY (LOU)

AGENCY: Federal Aviation Administration (FAA), DOT.

ACTION: Notice.

SUMMARY: The Federal Aviation Administration is requesting public comment on a request by Louisville Regional Airport Authority (LRAA), to retroactively release land (8.1 acres) at Bowman Field from federal obligations.

DATES: Comments must be received on or before January 21, 2022.

ADDRESSES: Comments on this notice may be emailed to the FAA at the following email address: FAA/Memphis Airports District Office, Attn: Jamal R. Stovall, Community Planner, Jamal.Stovall@faa.gov.

In addition, one copy of any comments submitted to the FAA must be mailed or delivered to Mr. Adam Thomas, Director of Properties, Louisville Regional Airport Authority at the following address: 700 Administration Drive, Louisville, KY 40209.

FOR FURTHER INFORMATION CONTACT: Jamal R. Stovall, Community Planner, Federal Aviation Administration, Memphis Airports District Office, 2600, Thousand Oaks Boulevard, Suite 2250, Memphis, TN 38118-2482, Phone (901) 322-8185, Jamal.Stovall@faa.gov. The application may be reviewed in person at this same location, by appointment.

SUPPLEMENTARY INFORMATION: The FAA proposes to rule and invites public comment on the request to release property for disposal at Bowman Field, 700 Administration Drive, Louisville, KY 28208, under the provisions of 49 U.S.C. 47107(h)(2). The FAA determined that the request to release property at Bowman Field (LOU) submitted by the Sponsor meets the procedural requirements of the Federal Aviation Administration and the release of these properties does not and will not impact future aviation needs at the airport. The FAA may approve the request, in whole or in part, no sooner than thirty days after the publication of this notice.

The request consists of the following:

The Property consists of approximately 8.1 acres and is located in the northeastern portion of the Airport and is labeled on the current Exhibit A as Parcel 74. The Property is physically located north of Runway 6/24 and west of Cannons Ln. and includes a portion of the Interstate 64 Exit Ramp which was constructed in 1967.

This request will release this property from federal obligations. This action is taken under the provisions of 49 U.S.C. 47107(h)(2).

Any person may inspect the request in person at the FAA office listed above under FOR FURTHER INFORMATION CONTACT.

In addition, any person may, upon request, inspect the request, notice and other documents germane to the request in person at Bowman Field (LOU).

Issued in Memphis, Tennessee on December 14, 2021.
Duane Leland Johnson,
Assistant Manager, Memphis Airports District Office, Southern Region.

[FR Doc. 2021-27698 Filed 12-21-21; 8:45 am]

BILLING CODE 4910-13-P